DEPARTMENT OF COMMERCE

National Oceanic and Atmospheric Administration

[XRIN: 0648-XB25]

North Pacific Fishery Management Council; Notice of Public Meetings

AGENCY: National Marine Fisheries Service (NMFS), National Oceanic and Atmospheric Administration (NOAA), Commerce.

ACTION: Notice of public meetings of the North Pacific Fishery Management Council and its advisory committees.

SUMMARY: The North Pacific Fishery Management Council (Council) will begin its plenary session and its Scientific and Statistical Committee (SSC) will hold public meetings in Anchorage, AK.

DATES: The meetings will be held on August 1-3, 2007. The SSC will begin its session 8 a.m. on August 1 and continue through August 2, 8 a.m. to 12 noon. The Council will begin its session on August 2, at 1 p.m. and continue through August 3 through 5 p.m.

ADDRESSES: The meetings will be held at the Anchorage Marriott Downtown, 820 W 7th Avenue, Anchorage, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION:

Council Plenary Session: The agenda for the Council's plenary session and SSC meeting will include the following issues: (1) Review and comment on the Steller Sea Lion (SSL) Recovery Plan; (2) Review Bering Sea Atka Mackerel Maximum Retainable Amount with intent to amend action previously taken. The agenda is subject to change, and the latest version will be posted at http://www.fakr.noaa.gov/npfmc/.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: July 3, 2007.
Tracey L. Thompson,
Acting Director, Office of Sustainable Fisheries, National Marine Fisheries Service.

[FR Doc. E7-13190 Filed 7-6-07; 8:45 am]

BILLING CODE 3510-22-S